DEPARTMENT OF HOUSING AND URBAN DEVELOPMENT

[Docket No. FR-5076-D-09]

Delegations of Authority for the Office of Housing-Federal Housing Administration (FHA); Redelegation of Authority to the Office of Affordable Housing Preservation

AGENCY: Office of the Assistant Secretary for Housing-Federal Housing Commissioner, HUD.

ACTION: Notice of revocation and redelegation of authority.

SUMMARY: On October 1, 2004, the Assistant Secretary for Housing-Federal Housing Commissioner (Assistant Secretary) redelegated authority to carry out provisions of Multifamily Assisted Housing Restructuring Act (MAHRA) to the General Deputy Assistant Secretary for Housing-Deputy Federal Housing Commissioner (General Deputy Assistant Secretary) and to staff within the Office of Affordable Housing Preservation. The purpose of today's notice is to update the redelegation of October 1, 2004.

DATES: Effective Date: September 15, 2006.

FOR FURTHER INFORMATION CONTACT: Eliot C. Horowitz, Senior Advisor to the Assistant Secretary for Housing—Federal Housing Commissioner, Office of Housing, Department of Housing and Urban Development, Room 9110, Washington, DC 20410-8000, telephone (202) 708-0614. (This is not a toll-free number.) Persons with hearing or speech impairments may call HUD's toll-free Federal Information Relay Service at (800) 877-8339.

SUPPLEMENTARY INFORMATION: The Office of Affordable Housing Preservation (OAHP) is headed by a Deputy Assistant Secretary and an Associate Deputy Assistant Secretary. OAHP is headquartered in Washington, DC, and has two field offices: one located in Washington, DC, and the other in Chicago, IL. OAHP also has staff out-stationed in New York, NY.

On October 1, 2004, the Assistant Secretary redelegated authority to the General Deputy Assistant Secretary; the OAHP Deputy Assistant Secretary, the OAHP Associate Deputy Assistant Secretary, OAHP Directors, OAHP Deputy Directors, the Bonds and Appeals Manager at HUD Headquarters, and the Rehabilitation Escrow Administration Division Manager out-stationed in New York, NY. That authority has not in any way been revoked or amended and it is reproduced in its entirety in today's notice. However, the Assistant Secretary is now redelegating authority to the OAHP Deputy Assistant Secretary and the OAHP Associate Deputy Assistant Secretary authority to perform two additional functions.

First, the OAHP Deputy Assistant Secretary and the OAHP Associate Deputy Assistant Secretary are being redelegated authority to perform all of the functions of a source selection official. This authority only can be exercised in relation to procurements under the subject matter jurisdiction of OAHP and consistent with HUD procurement policies and procedures, the Federal Acquisition Regulations (FAR), and the HUD Acquisition Regulations (HUDAR).

Second, the OAHP Deputy Assistant Secretary and the OAHP Associate Deputy Assistant Secretary are being authorized to approve, in connection with a project's sale or mortgage refinancing, the assumption, modification, and/or subordination of mortgage restructuring notes and contingent repayment notes previously created during a debt restructuring transaction. This authority is currently redelegated to officials within the Office of Housing's Office of Multifamily Housing programs (as part of the “asset management” function category). The authority will continue to be exercised in the Office of Multifamily Housing Programs. Authorizing the OAHP Deputy Assistant Secretary and the OAHP Associate Deputy Assistant Secretary to exercise this authority will ensure that a sale and/or refinancing transaction, that is of the most complex variety, is consummated in a manner that preserves the overall objectives stemming from the original restructuring transaction.

Accordingly, two new functions, numbers (12) and (13), have been added to the authority redelegated under Section I.B below.

The Assistant Secretary for Housing hereby redelegates authority as follows:

I. Authority Redelegated

A. The Assistant Secretary redelegates to the General Deputy Assistant Secretary the following authority:

All authority necessary to carry out the provisions of the Mark-to-Market Program under MAHRA (42 U.S.C. 1437f note), except for the authority to issue and/or waive regulations; and except for the authority to sue and be sued.

B. The Assistant Secretary redelegates to the OAHP Deputy Assistant Secretary and to the OAHP Associate Deputy Assistant Secretary the following authority:

(1) To modify and sign any documents necessary to perform enumerated functions and to waive any directive issued by OAHP that is not mandated by a statute or regulation.

(2) To administer all provisions of MAHRA, including but not limited to the following:

(a) To make eligibility determinations under sections 512 and 516 of MAHRA;

(b) To enter into, modify, and or extend agreements with participating administrative entities under section 513 of MAHRA;

(c) In connection with a restructuring transaction, to make rent and/or mortgage restructuring determinations under sections 514, 515, 517, and 524 of MAHRA; and

(d) To terminate, modify, or affirm any decision on appeal under MAHRA.

(3) In connection with a restructuring transaction, to modify the principal balance, payments, interest rate, and amortization period and other terms of existing FHA-insured and HUD-held mortgages including any HUD or Secretary-held subordinate debt encumbering or otherwise related to a project; and to issue restructuring commitments and closing documents relating to such debt.

(4) To issue HUD forms 92264 and 92264A upon approval of a restructuring plan.

(5) In connection with a restructuring transaction, to approve transfers of physical assets.

(6) In connection with a restructuring transaction, to approve environmental assessment and compliance findings for related laws report, HUD form 4128.1.

(7) To issue a commitment to insure and endorse for insurance a mortgage note given to refinance a HUD-insured or HUD-held mortgage, pursuant to section 223(a)(7) of the National Housing Act (12 U.S.C. 1715n).

(8) For qualified nonprofit entities acquiring projects that are the subject of a restructuring transaction, to modify, assign, or forgive debt created in the restructuring.

(9) To administer escrow accounts and modify the agreement established under the restructuring transaction, for the purpose of addressing immediate and near-term rehabilitation needs of a project.

(10) To perform all source selection official duties, subject to laws, regulations, and HUD policies and procedures governing the procurement process.

(11) To administer grant programs, other than selecting a grantee as only the Assistant Secretary is authorized to function as the Grant Official for the Office of Housing.

(12) To perform all functions of a source selection official in relation to a procurement under the subject matter jurisdiction of OAHP.

(13) To approve, in connection with a project's sale or mortgage refinancing, the assumption, modification, and/or subordination of mortgage restructuring notes and contingent repayment notes previously created during a debt restructuring transaction.

C. The Assistant Secretary redelegates to each OAHP Director and OAHP Deputy Director, in the Field Offices and at Headquarters, the following authority:

(1) To modify and sign any documents necessary to perform enumerated functions and to waive any directive issued by OAHP that is not mandated by a statute or regulation.

(2) To administer the following provisions of MAHRA;

(a) To make eligibility determinations under sections 512 and 516 of MAHRA;

(b) In connection with a restructuring transaction, to make rent and/or mortgage restructuring determinations under sections 514, 515, 517, and 524; and

(c) To reject or hear and decide any appeal made to the Production Office under 24 CFR 401.645 or another permissible procedure.

(3) In connection with a restructuring transaction, to modify the principal balance, payments, interest rate, and amortization period and other terms of existing FHA-insured and HUD-held mortgages, including any HUD or Secretary-held subordinate debt encumbering or otherwise related to a project; and to issue restructuring commitments and closing documents relating to such debt.

(4) To issue HUD forms 92264 and 92264A upon approval of a restructuring plan.

(5) In connection with a restructuring transaction, to approve transfers of physical assets.

(6) In connection with a restructuring transaction, to approve environmental assessment and compliance findings for related laws report, HUD form 4128.1.

(7) To issue a commitment to insure and endorse for insurance a mortgage note given to refinance a HUD-insured or HUD-held mortgage, pursuant to section 223(a)(7) of the National Housing Act (12 U.S.C. 1715n).

(8) For qualified nonprofit entities acquiring projects that are the subject of a restructuring transaction, to modify, assign, or forgive debt created in the restructuring.

D. The Assistant Secretary redelegates to the Rehabilitation Escrow Administration Manager the following authority:

(1) To modify and sign any documents necessary to perform enumerated functions related to the rehabilitation needs of a project that was the subject of a restructuring transaction, and to waive any directive issued by OAHP that is not mandated by a statute or regulation.

(2) To administer escrow accounts and modify the agreement established under the restructuring transaction, for the purpose of addressing immediate and near-term rehabilitation needs of a project.

E. The Assistant Secretary redelegates to the Bonds and Appeals Manager the following authority:

(1) To modify and sign any documents necessary to perform enumerated functions related to appeals under MAHRA and/or the regulations promulgated under MAHRA.

(2) To reject or hear and decide any appeal under MAHRA and/or the regulations promulgated under MAHRA, except for 24 CFR 401.645.

II. Authority Excepted

The authority redelegated herein does not include the authority to issue or to waive HUD regulations. The authority redelegated herein also does not include the authority to sue or be sued.

III. Further Redelegation

The authority redelegated herein may not be further redelegated.

Authority: Section 7(d), Department of Housing and Urban Development Act (42 U.S.C. 3535(d)).

Dated: September 15, 2006.
Brian D. Montgomery,
Assistant Secretary for Housing—Federal Housing Commissioner.

[FR Doc. E6-16896 Filed 10-11-06; 8:45 am]

BILLING CODE 4210-67-P